DEPARTMENT OF ENERGY

Federal Energy Regulatory Commission

[Docket No. RP96-290-005

Michigan Gas Storage Company; Notice of Refund Report

May 25, 2000.

Take notice that on May 22, 2000, Michigan Gas Storage Company (MGSCo) tendered for filing its Refund Report made to comply with the Commission's November 1, 1999 order on Rehearing and February 23, 2000 letter order accepting tariff sheets in this docket.

MGSCo states that the report shows that on April 21, 2000 it refunded $10,303,132.90, including interest, to affected customers for the period January 1997 through February 2000.

MGSCo states that copies of the filing have been served on all customers and applicable state regulatory agencies as well as those on the official service list in this proceeding.

Any person desiring to protest said filing should file a protest with the Federal Energy Regulatory Commission, 888 First Street, NW., Washington, DC 20426, in accordance with Section 385.211 of the Commission's Rules and Regulations. All such protests must be filed on or before June 1, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.
Acting Secretary.

[FR Doc. 00-13623 Filed 5-31-00; 8:45 am]

BILLING CODE 6717-01-M